NATIONAL SCIENCE FOUNDATION

National Science Board; NSB Election Committee; Sunshine Act Meeting

Date and Time: Thursday, April 27, 2006, 3 p.m.-4 p.m. (EDT).

Place: National Science Foundation, Room 1235, 4201 Wilson Boulevard, Arlington, VA 22230.

FOR FURTHER INFORMATION CONTACT: Dr. Michael P. Crosby, Executive Officer and NSB Office Director, (703) 292-7000. www.nsf.gov/nsb.

Status: This meeting will be closed to the public.

Agenda: Discussion of candidates for National Science Board Chairman, Vice Chairman and two vacancies on the Executive Committee.

Michael P. Crosby,
Executive Officer.

[FR Doc. 06-3532 Filed 4-10-06; 8:54 am]

BILLING CODE 7555-01-M